DEPARTMENT OF COMMERCE

Foreign-Trade Zones Board

[B-21-2017]

Foreign-Trade Zone 74—Baltimore, Maryland; Application for Reorganization (Expansion of Service Area) Under Alternative Site Framework

An application has been submitted to the Foreign-Trade Zones (FTZ) Board by the Baltimore Development Corporation on behalf of the City of Baltimore, grantee of Foreign-Trade Zone 74, requesting authority to reorganize the zone to expand its service area under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on April 5, 2017.

FTZ 74 was approved by the FTZ Board on January 21, 1982 (Board Order 183, 47 FR 5737, February 8, 1982) and reorganized under the ASF on May 24, 2012 (Board Order 1831, 77 FR 32930, June 4, 2012). The zone currently has a service area that includes the City of Baltimore and the Counties of Anne Arundel, Baltimore, Cecil and Harford.

The applicant is now requesting authority to expand the service area of the zone to include Howard and Queen Anne Counties, as described in the application. If approved, the grantee would be able to serve sites throughout the expanded service area based on companies' needs for FTZ designation. The application indicates that the proposed expanded service area is adjacent to the Baltimore Customs and Border Protection Port of Entry.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is June 9, 2017. Rebuttal comments in response to material submitted during the foregoing period may be submitted during the subsequent 15-day period to June 26, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or (202) 482-1346.

Dated: April 5, 2017.
Andrew McGilvray,
Executive Secretary.

[FR Doc. 2017-07103 Filed 4-7-17; 8:45 am]

BILLING CODE 3510-DS-P